DEPARTMENT OF HEALTH AND HUMAN SERVICES

Centers for Disease Control and Prevention

[60Day-22-1318; Docket No. CDC-2021-0124]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Requirement for Negative Pre-Departure COVID-19 Test Result or Documentation of Recovery from COVID-19 For All Airline or Other Aircraft Passengers Arriving into the United States from any Foreign Country and Requirement for Proof of COVID-19 Vaccination for Noncitizen, Nonimmigrant Air Passengers Arriving Into The United States From A Foreign Country. This proposed information collection is designed to ensure that CDC complies with Orders published October 25 and October 30, 2021, and to confirm that passengers who are coming into the United States via air travel have tested negative for or recently recovered from COVID-19, and that noncitizen, nonimmigrant passengers are fully vaccinated against COVID-19.

DATES: CDC must receive written comments on or before January 18, 2022.

ADDRESSES: You may submit comments, identified by Docket No. CDC-2021-0124 by any of the following methods:

• Federal eRulemaking Portal: Regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Requirement for Negative Pre-Departure COVID-19 Test Result or Documentation of Recovery from COVID-19 For All Airline or Other Aircraft Passengers Arriving into the United States from any Foreign Country and Requirement for Proof of COVID-19 Vaccination for Noncitizen, Nonimmigrant AirPassengers Arriving Into The United States From A Foreign Country (OMB Control No. 0920-1318, Exp. 5/31/2022)—Revision—National Center for Emerging and Zoonotic Infectious Diseases (NCEZID), Centers for Disease Control and Prevention (CDC).

Background and Brief Description

Since January 2020, the respiratory disease known as “COVID-19,” caused by a novel coronavirus (SARS-CoV-2), has spread globally, including cases reported in all 50 states within the United States, plus the District of Columbia and all U.S. territories. As of October 22,2021, there have been over 242,000,000 million cases of COVID-19 globally, resulting in over 4,900,000 deaths. More than 45,000,000 cases have been identified in the United States, with new cases reported daily, and over 733,000 deaths have been attributed to the disease. Many countries have begun widespread vaccine administration; however, 98 countries continue to experience high or substantial incidence rates (>50 cases per 100,000 people in the last seven days) and 65 countries, including the United States, are experiencing a high incidence of reported new cases at this time.¹⁹

SARS-CoV-2 spreads mainly from person-to-person through respiratory fluids released during exhalation, such as when an infected person coughs, sneezes, or talks. Exposure to these respiratory fluids occurs in three principal ways: (1) Inhalation of very fine respiratory droplets and aerosol particles, (2) deposition of respiratory droplets and particles on exposed mucous membranes in the mouth, nose, or eye by direct splashes and sprays, and (3) touching mucous membranes with hands that have been soiled either directly by virus-containing respiratory fluids or indirectly by touching surfaces with virus on them. Spread is more likely when people are in close contact with one another (within about 6 feet), especially in crowded or poorly ventilated indoor settings. Persons who are not fully vaccinated, including those with asymptomatic or pre-symptomatic infections, are significant contributors to community SARS-CoV-2 transmission and occurrence of COVID-19. New variants of SARS-CoV-2 have emerged globally, several of which have been identified as variants of concern, including the Delta variant. Some variants are more transmissible and some may cause more severe disease, which can lead to more hospitalizations, and deaths among infected individuals.

On October 25, 2021 CDC amended its January 25, 2021 Order, titled, “Requirement for Proof of Negative COVID-19 Test or Recovery from COVID-19 for All Air Passengers Arriving in the United States.” This amendment updates COVID-19 testing requirements for air passengers two years or older boarding a flight to the United States, depending on COVID-19 vaccination status. Those who are fully vaccinated will need to provide a negative pre-departure COVID-19 test conducted with a specimen no more than 3 days before travel to the US, as well as proof of being fully vaccinated. While those who are not fully vaccinated will need to provide a negative pre-departure COVID-19 test conducted with a specimen no more than one day of before travel to the U.S.

The Order requiring a negative COVID-19 test or documentation of recovery has a list of categorical exemptions that would not be subject to this information collection. These include, crew members of airlines or other aircraft operators who follow industry standard protocols for the prevention of COVID-19; airlines or other aircraft operators transporting passengers with COVID-19 pursuant to CDC authorization and in accordance with CDC guidance; U.S. federal law enforcement personnel on official orders; U.S. military personnel, including civilian employees, dependents, contractors, and other U.S. government employees when traveling on U.S. military assets; and any person who may apply and receive a time limited exemption for urgent humanitarian reasons.

Also on October 25, 2021, President Biden issued a Proclamation “Advancing Safe Resumption of Global Travel During the COVID-19 Pandemic”. This Proclamation allowed CDC to issue an Order Implementing Proclamation on Advancing Safe Resumption of Global Travel During the COVID-19 Pandemic on October 25, 2021, followed by an amendment on October 30, 2021 which provided minimal updates and superseded the October 25, 2021 Order.

This Proclamation and Order will only apply to noncitizen, nonimmigrants. It will not apply to any person who is a U.S. citizen, U.S. national, lawful permanent resident, or immigrant. The Proclamation also does not apply to crew members of airlines or other aircraft operators if they follow industry standard protocols for the prevention of COVID-19. Some noncitizen, nonimmigrants who are not fully vaccinated, as defined by the Order, may fall into a category that allows them to be excepted to the requirement if they can present to an airline or aircraft operator that they meet the criteria for that category, such as letters confirming registration in a vaccine clinical trial, or U.S. military identification.

For information collection activities associated with these Orders, CDC requests OMB approval for an estimated 352,538,030 annual burden hours.

Estimated Annualized Burden Hours
Type of respondent | Form name | Number of respondents | Number of responses per respondent | Average burden per response (in hours) | Total burden (in hours)
Air Passenger | Section 1 of Combined Passenger Disclosure and Attestation to the United States of America | 123,000,000 | 1 | 2 | 246,000,000
Noncitizen Nonimmigrant Air Passenger | Section 2 of Combined Passenger Disclosure and Attestation to the United States of America | 90,000,000 | 1 | 1 | 90,000,000
Airline Desk Agent | Combined Passenger Disclosure and Attestation to the United States of America | 123,000,000 | 1 | 8/60 | 16,400,000
Air Passenger | Request Humanitarian Exemption to COVID-19 Test or Documentation of Recovery | 600 | 1 | 2 | 1,000
Noncitizen Nonimmigrant Air Passenger | Request Humanitarian or Emergency Exception to Proof of Vaccination Requirement | 600 | 1 | 2 | 1,000
Air Passenger (undergoing compliance check) | Questions Asked to Air Passengers Going Through Compliance Checks | 1,230,000 | 1 | 5/60 | 102,500
Air Passenger (undergoing compliance check with non-compliant documentation) | Air Travel Illness or Death Investigation or Traveler Follow-up Form | 7,380 | 1 | 10/60 | 1,230
Noncitizen Nonimmigrant Air Passenger (undergoing compliance check and using humanitarian or emergency exception) | Air Travel Illness or Death Investigation or Traveler Follow-up Form | 190,000 | 1 | 10/60 | 31,667
Air Traveler (for illness or death investigation) | Air Travel Illness or Death Investigation or Traveler Follow-up Form | 1,700 | 1 | 15/60 | 425
Returned Inadmissible Passenger | Contact information collection for public health follow up | 835 | 1 | 5/60 | 70
Airline Representative | Contact information collection for public health follow up | 835 | 1 | 10/60 | 139
Total |  |  |  |  | 352,538,030

Jeffrey M. Zirger,
Lead, Information Collection Review Office, Office of Scientific Integrity, Office of Science, Centers for Disease Control and Prevention.

[FR Doc. 2021-24994 Filed 11-15-21; 8:45 am]

BILLING CODE 4163-18-P